DEPARTMENT OF ENERGY

Federal Energy Regulatory Commission

[Docket No. EL06-76-000]

Arkansas Public Service Commission v. Entergy Services, Inc., Entergy Louisiana, L.L.C., Entergy Arkansas, Inc., Entergy Mississippi, Inc., Entergy New Orleans, Inc.; Notice of Complaint

June 8, 2006.

Take notice that on June 7, 2006, the Arkansas Public Service Commission, pursuant to section 206 and 207 of the Federal Power Act and Rule 206 of the Commission Rules of Practice and Procedure, filed with the Commission a Complaint against Entergy Services, Inc., Entergy Louisiana, L.L.C., Entergy Arkansas, Inc., Entergy Mississippi, Inc., and Entergy New Orleans, Inc. (collectively, Entergy) seeking an investigation into the prudence of all of Entergy's practices affecting production costs, particularly generation costs, wholesale purchasing practices, and adequacy of Entergy's transmission system. The Arkansas Public Service Commission asks that a refund effective date be set for the earliest possible date.

The Arkansas Public Service Commission certifies that copies of the complaint were served on the contacts for Entergy listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 27, 2006.

Magalie R. Salas,
Secretary.

[FR Doc. E6-9375 Filed 6-15-06; 8:45 am]

BILLING CODE 6717-01-P